DEPARTMENT OF COMMERCE

Foreign-Trade Zones Board

[Order No. 1332]

Expansion of Foreign-Trade Zone 151: Findlay, OH, Area

Pursuant to its authority under the Foreign-Trade Zones Act of June 18, 1934, as amended (19 U.S.C. 81a-81u), the Foreign-Trade Zones Board (the Board) adopts the following Order:

Whereas, the Findlay-Hancock County Chamber of Commerce, grantee of Foreign-Trade Zone 151, submitted an application to the Board for authority to expand FTZ 151 to include a site within the Ottawa Industrial Park (373 acres) in Ottawa, Ohio (Site 3), adjacent to the Toledo Customs port of entry (FTZ Docket 28-2003; filed 6/10/03);

Whereas, notice inviting public comment was given in the Federal Register (68 FR 35856, 6/17/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 151 is approved, subject to the Act and the Board's regulations, including Section 400.28.

Signed at Washington, DC, this 30th day of April, 2004.
Attest:
Dennis Puccinelli,
Executive Secretary.
James J. Jochum,
Assistant Secretary of Commerce for Import Administration, Alternate Chairman, Foreign-Trade Zones Board.

[FR Doc. 04-10671 Filed 5-10-04; 8:45 am]

BILLING CODE 3510-DS-P